DEPARTMENT OF COMMERCE

National Oceanic and Atmospheric Administration

[RTID 0648-XE871]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, May 13, 2025, starting at 9:30 a.m. and continue through 12:30 p.m. on Wednesday, May 14, 2025. See SUPPLEMENTARY INFORMATION for agenda details.

ADDRESSES: This will be an in-person meeting with a virtual option. SSC members, other invited meeting participants, and members of the public will have the option to participate in person at the Royal Sonesta Harbor Court, 550 Light Street, Baltimore, MD or virtually via Webex webinar. Webinar connection instructions and briefing materials will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will make multi-year acceptable biological catch (ABC) recommendations for Blueline Tilefish and Chub Mackerel. The SSC will recommend new 2026-2028 ABC specifications for Blueline Tilefish based on updated stock assessment results and recommendations from a joint Mid-Atlantic and South Atlantic Blueline Tilefish SSC Working Group. The SSC will recommend new 2026-2028 ABC specifications for Chub Mackerel based on updated catch and survey information. The SSC will also review the most recent survey and fishery data and the previously recommended 2026 ABC for Atlantic Surfclam, Ocean Quahog, Golden Tilefish, Butterfish, and Longfin Squid. The SSC will discuss the activities and future products of the Overfishing Limit (OFL) Coefficient of Variation (CV) sub-group and the sector-specific OFL/ABC white paper sub-group. The SSC will also discuss the final recommendations and Mid-Atlantic action items developed from the 8th National Scientific Coordination Sub-Committee Workshop. The SSC may take up any other business as necessary.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: April 21, 2025.
Rey Israel Marquez,
Acting Deputy Director, Office of Sustainable Fisheries, National Marine Fisheries Service.

[FR Doc. 2025-07095 Filed 4-23-25; 8:45 am]

BILLING CODE 3510-22-P